DEPARTMENT OF THE INTERIOR

Bureau of Land Management

[BLM_ID_FRN_MO4500181054]

Filing of Plats of Survey: Idaho

AGENCY: Bureau of Land Management, Interior.

ACTION: Notice of official filing of plats of surveys.

SUMMARY: The plats of survey of the following described lands are scheduled to be officially filed in the Bureau of Land Management (BLM), Idaho State Office (ISO), Boise, Idaho, 30 days from the date of this publication. The plats were prepared to meet administrative needs of various Federal agencies.

ADDRESSES: A copy of the plat may be obtained from the Public Room at the Bureau of Land Management, Idaho State Office, 1387 S Vinnell Way, Boise, Idaho 83709, upon required payment.

FOR FURTHER INFORMATION CONTACT: Daniel S. Young, Branch of Cadastral Survey, BLM, 1387 South Vinnell Way, Boise, Idaho, 83709-1657; (208) 373-3994; email: dsyoung@blm.gov. Individuals in the United States who are deaf, deafblind, hard of hearing, or have a speech disability may dial 7-1-1 (TTY, TDD, or TeleBraille) to access telecommunications relay services. Individuals outside the United States should use the relay services offered within their country to make international calls to the point-of-contact in the United States.

SUPPLEMENTARY INFORMATION:

Boise Meridian, Idaho

T. 8 N., R. 33 E., Sections 19, 30, and 31, accepted May 17, 2024.

T. 48 N., R. 2 E., Sections 21 and 22, accepted July 1, 2024.

T. 2 S., R. 3 W., Section 18, accepted July 16, 2024.

T. 2 S., R. 4 W., Section 13, accepted July 16, 2024.

T. 4 N., R. 3 E., Sections 1, 4, 5, 8, 10, 11, 14, 15, 23, 24, 25, 26, and 35, accepted July 19, 2024.

T. 4 N., R. 4 E., Sections 6 and 30, accepted July 19, 2024.

The plat, in one sheet, incorporating the field notes of the dependent resurvey of a portion of the 8th Auxiliary Meridian East (west boundary) and a portion of the subdivisional lines, and the subdivision of sections 19, 30, and 31, T. 8 N., R. 33 E., Boise Meridian, Idaho, Group Number 1549, accepted May 17, 2024.

The plat, in three sheets, of the corrective dependent resurvey of a portion of the subdivisional lines, and the dependent resurvey of portions of the subdivisional lines and certain mineral surveys, and the metes-and-bounds survey of Tract 47, T. 48 N., R. 2 E, Boise Meridian, Idaho, Group Number 1432, accepted July 1, 2024.

The plat, in one sheet, incorporating the field notes of the dependent resurvey of a portion of the subdivisional lines, and the subdivision of section 18, T. 2 S., R. 3 W., Boise Meridian, Idaho, Group Number 1566, accepted July 16, 2024.

The plat, in one sheet, incorporating the field notes of the dependent resurvey of portions of the east boundary and the subdivisional lines, and the subdivision of section 13, T. 2 S., R. 4 W., Boise Meridian, Idaho, Group Number 1566, accepted July 16, 2024.

The plat, in two sheets, incorporating the field notes of the dependent resurvey of portions of the north, south, and east boundaries, and a portion of the subdivisional lines, and the boundaries of Mineral Survey Number 1661, and the subdivision of sections 1, 4, 5, 8, 10, 11, 14, 15, 23, 24, 25, 26, and 35, T. 4 N., R. 3 E., Boise Meridian, Idaho, Group Number 1452, accepted July 19, 2024.

The plat, in one sheet, incorporating the field notes of the dependent resurvey of portions of the west and north boundaries, and a portion of the subdivisional lines, and the subdivision of sections 6 and 30, T. 4 N., R. 4 E., Boise Meridian, Idaho, Group Number 1478, accepted July 19, 2024.

If you wish to protest one or more plats of survey identified above, you must file a written notice of protest with the Chief Cadastral Surveyor for Idaho, BLM within 30 calendar days from the date of this publication at the address listed in the ADDRESSES section of this notice. The protest must identify the plat(s) of survey being protested and contain all reasons and evidence in support of the protest. A protest is considered filed on the date it is received by the Chief Cadastral Surveyor for Idaho during regular business hours; if received after regular business hours, a protest will be considered filed the next business day.

Before including your address, phone number or email address in a protest, you should be aware the documents you submit, including your personal identifying information, may be made publicly available in their entirety. While you can ask to withhold your personal identifying information from public review, we cannot guarantee this.

(Authority: 43 U.S.C. chapter 3.)

Michael L. Hart,
Chief Cadastral Surveyor for Idaho.

[FR Doc. 2024-16839 Filed 7-30-24; 8:45 am]

BILLING CODE 4331-19-P